DEPARTMENT OF AGRICULTURE

Agricultural Marketing Service

7 CFR Part 920

[Doc. No. AO-FV-08-0174; AMS-FV-08-0085; FV08-920-3 C]

Kiwifruit Grown in California; Order Amending Marketing Order No. 920; Correction

AGENCY: Agricultural Marketing Service, USDA.

ACTION: Correcting amendment.

SUMMARY: This document contains a correction to the final rule that was published in the Federal Register on Tuesday, June 29, 2010 (75 FR 37288). The final rule amended Marketing Order No. 920 (order), which regulates the handling of kiwifruit grown in California. The amendments redefined the grower districts into which the production area is divided and reallocated committee membership among the districts. This rule corrects the final rule by removing order language regarding selection of members and alternates that was inadvertently kept in after the removal of the language as a conforming change was approved by growers in a referendum.

DATES: Effective January 25, 2011.

FOR FURTHER INFORMATION CONTACT: Laurel May or Kathleen M. Finn, Marketing Order Administration Branch, Fruit and Vegetable Programs, AMS, USDA, 1400 Independence Avenue, SW., Stop 0237, Washington, DC 20250-0237; Telephone:(202) 720-2491, Fax: (202) 720-8938, E-mail: Laurel.May@ams.usda.gov or Kathy.Finn@ams.usda.gov.

SUPPLEMENTARY INFORMATION: This document provides a correcting amendment to Marketing Order 920 (7 CFR part 920). Specifically, this rule removes language from § 920.21—“Term of Office” that refers to the selection of three committee members and alternates to represent the districts with the highest shipping volumes.

The Kiwifruit Administrative Committee (committee) is comprised of eleven grower members and eleven alternates, as well as one public member and alternate. Prior to the recent order amendment, the regulated production area was divided into eight grower districts. One grower member and one alternate were selected to represent each of the eight districts on the committee. Three members and alternates were selected to provide additional representation for the three districts with the highest shipping volume.

A final rule was published on June 29, 2010 (75 FR 37288) that amended section 920.12 of the order to provide for only three grower districts, with all eleven grower member and alternate seats allocated among the districts based on production history. A conforming change was necessary in section 920.21, to delete references to additional members and alternates for the districts with the highest shipping volume as this was no longer relevant under the modified district makeup. Although this conforming change was approved, along with the district changes to section 920.12, AMS inadvertently kept the language in 920.21 that was no longer relevant. This correcting amendment removes that language.

List of Subjects in 7 CFR Part 920

Kiwifruit, Marketing agreements, Reporting and recordkeeping requirements.

For the reasons set forth in the preamble, 7 CFR part 920 is amended as follows:

PART 920—KIWIFRUIT GROWN IN CALIFORNIA

1. The authority citation for 7 CFR part 920 continues to read as follows:

Authority: 7 U.S.C. 601-674.

2. Revise § 920.21 to read as follows:

§ 920.21 Term of office.

The term of office of each member and alternate member of the committee shall be for two years from the date of their selection and until their successors are selected. The terms of office shall begin on August 1 and end on the last day of July, or such other dates as the committee may recommend and the Secretary approve. Members may serve up to three consecutive 2-year terms not to exceed 6 consecutive years as members. Alternate members may serve up to three consecutive 2-year terms not to exceed 6 consecutive years as alternate members.

Dated: January 19, 2011.
Rayne Pegg,
Administrator, Agricultural Marketing Service.

[FR Doc. 2011-1426 Filed 1-24-11; 8:45 am]

BILLING CODE 3410-02-P